ENVIRONMENTAL PROTECTION AGENCY

[ER-FRL-9039-1]

Environmental Impact Statements; Notice of Availability

Responsible Agency: Office of Federal Activities, General Information (202) 564-7156 or https://www2.epa.gov/nepa/.

Weekly receipt of Environmental Impact Statements, Filed 04/23/2018 Through 04/27/2018, Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20180073, Draft, NASA, VA, NASA WFF Site-wide Programmatic Environmental Impact Statement, Comment Period Ends: 06/18/2018, Contact: Shari A. Miller 757-824-2327.

EIS No. 20180074, Draft, NPS, CA, Saline Valley Warm Springs Management Plan and Draft EIS, Comment Period Ends: 07/02/2018, Contact: Kelly Daigle 303-987-6897.

EIS No. 20180075, Final, BR, CA, Pure Water San Diego Program, North City Project, Review Period Ends: 06/04/2018, Contact: Doug McPherson 951-695-5310.

EIS No. 20180076, Draft Supplement, TVA, KY, Shawnee Fossil Plant Coal Combustion Residual Management, Comment Period Ends: 06/18/2018, Contact: Ashley Pilakowski 865-632-2256.

EIS No. 20180077, Final, NPS, WA, Olympic National Park Mountain Goat Management Plan, Review Period Ends: 06/04/2018, Contact: Christina Miller 360-565-3004.

EIS No. 20180078, Draft, FHWA, TX, Oakhill Parkway, Comment Period Ends: 06/18/2018, Contact: Carlos Swonke 512-416-2734.

EIS No. 20180079, Draft, USFS, AK, Prince of Wales Landscape Level Analysis Project, Comment Period Ends: 06/18/2018, Contact: Delilah Brigham 907-828-3232.

EIS No. 20180080, Draft, BLM, WY, Wyoming Greater Sage-Grouse Draft Resource Management Plan Amendment and Environmental Impact Statement, Comment Period Ends: 08/02/2018, Contact: Jennifer Fleuret 307-775-6329.

EIS No. 20180081, Draft, BLM, UT, Utah Greater Sage-Grouse Draft Resource Management Plan Amendment and Environmental Impact Statement, Comment Period Ends: 08/02/2018, Contact: Quincy Bahr 801-539-4122.

EIS No. 20180082, Draft, BLM, OR, Oregon Greater Sage-Grouse Draft Resource Management Plan Amendment and Environmental Impact Statement, Comment Period Ends: 08/02/2018, Contact: Jim Regan-Vienop 503-808-6062.

EIS No. 20180083, Draft, BLM, ID, Idaho Greater Sage-Grouse Draft Resource Management Plan Amendment and Environmental Impact Statement, Comment Period Ends: 08/02/2018, Contact: Jonathan Beck 208-373-3841.

EIS No. 20180084, Draft, BLM, CO, Northwest Colorado Greater Sage-Grouse Draft Resource Management Plan Amendment and Environmental Impact Statement, Comment Period Ends: 08/02/2018, Contact: Bridget Clayton 970-244-3045.

EIS No. 20180085, Draft, BLM, NV, Nevada and Northeastern California Greater Sage-Grouse Draft Resource Management Plan Amendment and Environmental Impact Statement, Comment Period Ends: 08/02/2018, Contact: Matt Magaletti 775-861-6472.

Dated: April 30, 2018.
Kelly Knight,
Director, NEPA Compliance Division, Office of Federal Activities.

[FR Doc. 2018-09463 Filed 5-3-18; 8:45 am]

BILLING CODE 6560-50-P